DEPARTMENT OF JUSTICE

Antitrust Division

Notice Pursuant to the National Cooperative Research and Production Act of 1993—Telemanagement Forum

Notice is hereby given that, on April 2, 2013, pursuant to Section 6(a) of the National Cooperative Research and Production Act of 1993, 15 U.S.C. 4301 et seq. (“the Act”), TeleManagement Forum (“The Forum”) has filed written notifications simultaneously with the Attorney General and the Federal Trade Commission disclosing changes in its membership. The notifications were filed for the purpose of extending the Act's provisions limiting the recovery of antitrust plaintiffs to actual damages under specified circumstances. Specifically, the following parties have been added as members to this venture: Salzburg AG, Salzburg, AUSTRIA; Mascom Wireless (MTN Botswana), Gabarone, BOTSWANA; AsGa Sistemas, Paulinia, BRAZIL; INATEL—Instituto Nacional de Telecomunicacoes, Santa Rita do Sapucai, BRAZIL; OSX Telecomunicacoes SA (Visent), Brasilia, BRAZIL; Push Science, Toronto, CANADA; MULTICOM d.o.o., Zagreb, CROATIA; University of Split, Faculty of Electrical Engineering, Mechanical Engineering & Naval Architecture, Split, CROATIA; Projeca Oy, Helsinki, FINLAND; HGTelekom, Reillanne, FRANCE; MindTree, Paris, FRANCE; ASTELLIA, Vern Sur Seiche, FRANCE; e.discom Telekommunikation GmbH, Potsdam, GERMANY; e. Services Africa Limited, Accra, GHANA; Cognity Consulting, Maroussi, GREECE; Bispro Consulting, Jakarta, INDONESIA; University of Indonesia, Depok, INDONESIA; Axiata Management Services Sdn Bhd, KL Sentral, MALAYSIA; ING Bank N.V., Amsterdam, NETHERLANDS; Ultrafast Fibre Limited, Hamilton, NEW ZEALAND; Nexio, Warsaw, POLAND; TV-7, Seversk, RUSSIA; Wellink, Moscow, RUSSIA; Corporate Solutions Co., Riyadh, SAUDI ARABIA; Ibis instruments, Belgrade, SERBIA; Hitachi Data Systems, Singapore, SINGAPORE; Tempest IT services a. s., Bratislava, SLOVAK REPUBLIC; Luminet Group South Africa, Centurion, SOUTH AFRICA; University of Cape Town, Western Cape, SOUTH AFRICA; CellC, Johannesburg, SOUTH AFRICA; Tilgin IPRG AB, Kista, SWEDEN; hybris AG, Rotkreuz, SWITZERLAND; JSC UKRTELECOM, Kyiv, UKRAINE; S.S.C. FZE, Dubai, UNITED ARAB EMIRATES; Birmingham City University, Birmingham, UNITED KINGDOM; Coraltree Systems Ltd, Fareham, UNITED KINGDOM; EnStratus Networks (UK) Limited, Edinburgh, UNITED KINGDOM; Kitka Ltd, London, UNITED KINGDOM; KJM Consulting, Chesham, UNITED KINGDOM; NW Consulting, Billericay, UNITED KINGDOM; Sytel Reply Ltd UK, London, UNITED KINGDOM; Cignium Technologies, Fort Lee, NJ; Cyber Squared, Arlington, VA; Edge Technologies, Fairfax, VA; JustOne Database, Inc., Guilford, CT; Mediacom Communications Corp., Middletown, NY; Mformation Software Technologies, Edison, NJ; Orchestral Networks, Atherton, CA; Ranck Consulting, Chevy Chase, MD; SundaySky, New York, NY; Talksum, Inc., San Francisco, CA; Viasat, Inc., Carlsbad, CA; and Canoe Ventures, Englewood, CO.

The following members have changed their names: China Comservice Software Technology Co., Ltd. to China Communication Service Application and Solution Technology CO. Ltd, Beijing, PEOPLE'S REPUBLIC OF CHINA; Hello Axiata Company Ltd. to Latelz Co. Ltd. (Smart), Khan Chamkarmon, CAMBODIA; UPC Broadband Operations b.v. to Liberty Global Services B.V., Schiphol Rijk, NETHERLANDS; Astro Malaysia Holdings Berhad to MEASAT Broadcast Network Systems Sdn Bhd (MBNS—Astro), Bukit Jalil, MALAYSIA; Novice Software Solutions to Sagacity Softwares Private Limited, Wajre, Pune, INDIA; and Vivo S.A. to Telefonica Brasil S.A., Morumbi, BRAZIL.

The following members have withdrawn as parties to this venture: Telecom Developement Comany Afghanistan.Ltd—ROSHAN, Kabul, AFGHANISTAN; Indigo Telecom (Aust) Pty Ltd, Brisbane, AUSTRALIA; Bahrain Telecommunications Company (Batelco), Manama, BAHRAIN; SWIFT, La Hulpe, BELGIUM; Fixed Telefonica Brazil, Sao Paulo, BRAZIL; TradeMerit, Ottawa, CANADA; WATCH4NET SOLUTIONS INC, Montreal, CANADA; Sykora Data Center, Ostrava, CZECH REPUBLIC; NORDUnet A/S, Kastrup, DENMARK; Corporacion Nacional de Telecomunicaciones CNT EP, Quito, ECUADOR; Aito Technologies, Espoo, FINLAND; Gridit, Salo, FINLAND; IPANEMA TECHNOLOGIES, Fontenay aux Roses, FRANCE; Qosmos, Paris, FRANCE; VEDICIS, Paris, FRANCE; Consultancy & Systems Engineering (c & se), Herrsching a. Ammersee, GERMANY; IPTEGO, Berlin, GERMANY; VOIPFUTURE, Hamburg, GERMANY; University of Patras—Department of Electrical and Computer Engineering, Patras, GREECE; SAS, Pune, INDIA; Sistema Shyam TeleServices Ltd., Gurgaon, INDIA; Eircom Ltd, Dublin, IRELAND; Meteor Mobile Communications, Dublin, IRELAND; Shabakkat, Kuwait City, KUWAIT; Spurs and Galilleo Limited, Ojodu, NIGERIA; Outbox Sp z.o.o., Warsaw, POLAND; Critical Software, SA, Coimbra, PORTUGAL; Tvingo Telecom, Vladikavkaz, RUSSIA; CABLEUROPA S.A.U. (ONO), Madrid, SPAIN; Com Hem AB, Stockholm, SWEDEN; IFS, Linkoping, SWEDEN; PJSC Telecominvest, Kiev, UKRAINE; 6PM Management Consultancy (UK) Ltd., London, UNITED KINGDOM; Neural Technologies, Petersfield, UNITED KINGDOM; OpenCloud, Cambridge, UNITED KINGDOM; University of Warwick—School of Engineering, Coventry, UNITED KINGDOM; Aricent, East Brunswick, NJ; Credit Suisse, New York, NY; DSET Corporation, Norcross, GA; Errigal Inc, San Francisco, CA; Fault Tolerant Designs, Inc, Jamaica Plain, MA; GridMiddleWare Spectra, New York, NY; IneoQuest Technologies, Inc, Mansfield, MA; McAfee, Santa Clara, CA; Syniverse Technologies, LLC, Tampa, FL; Telchemy Incorporated, Duluth, GA; Telcocell, Broomfield, CO; tw telecom, Littleton, CO; and Ultimate Software, Weston, FL.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on January 22, 2013. A notice was published in the Federal Register pursuant to Section 6(b) of the Act on February 22, 2013 (78 FR 12356).

Patricia A. Brink,
Director of Civil Enforcement, Antitrust Division.

[FR Doc. 2013-09822 Filed 4-25-13; 8:45 am]

BILLING CODE P